DEPARTMENT OF ENERGY

10 CFR Part 430

[EERE-2018-BT-STD-0005]

RIN 1904-AE35

Energy Conservation Program: Energy Conservation Standards for Dishwasher, Grant of Petition for Rulemaking

AGENCY: Office of Energy Efficiency and Renewable Energy, Department of Energy.

ACTION: Extension of public comment period.

SUMMARY: The U.S. Department of Energy (“DOE”) is extending the public comment period for its grant of a petition for rulemaking and a proposed rule to establish a new product class for dishwashers. DOE published the notice of proposed rulemaking (NOPR) in the Federal Register on July 16, 2019 establishing a 60-day public comment period ending September 16, 2019. On August 9, 2019, DOE received a comment requesting a 60 day comment period extension. DOE is extending the public comment period for submitting comments and data on the NOPR by 30 days to October 16, 2019.

DATES: The comment period for the proposed rulemaking published on July 16, 2019 (84 FR 33869), is extended. DOE will accept comments, data, and information regarding this rulemaking received no later than October 16, 2019.

ADDRESSES: Interested persons are encouraged to submit comments, identified by docket number EERE-2018-BT-STD-0005, by any of the following methods:

Federal eRulemaking Portal: http://www.regulations.gov. Follow the instructions for submitting comments.

Email: Dishwashers2018STD0005@ee.doe.gov. Include the docket number and/or RIN in the subject line of the message. Submit electronic comments in WordPerfect, Microsoft Word, PDF, or ASCII file format, and avoid the use of special characters or any form of encryption.

Postal Mail: Appliance and Equipment Standards Program, U.S. Department of Energy, Building Technologies Office, Mailstop EE-5B, 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: For access to the docket to read background documents, or comments received, go to the Federal eRulemaking Portal at https://www.regulations.gov/docket?D=EERE-2018-BT-STD-0005.

The docket, which includes Federal Register notices, public meeting attendee lists and transcripts, comments, and other supporting documents/materials, is available for review at http://www.regulations.gov. All documents in the docket are listed in the http://www.regulations.gov index. However, some documents listed in the index may not be publicly available, such as those containing information that is exempt from public disclosure.

The docket web page can be found at: https://www.regulations.gov/docket?D=EERE-2018-BT-STD-0005. The docket web page contains instructions on how to access all documents, including public comments, in the docket.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Elizabeth Kohl, U.S. Department of Energy, Office of the General Counsel, GC-33, 1000 Independence Avenue SW, Washington, DC 20585-0121. Telephone: (202) 586-7796. Email: Elizabeth.Kohl@hq.doe.gov.

For further information on how to submit a comment or review other public comments and the docket contact the Appliance and Equipment Standards Program staff at (202) 287-1445 or by email: ApplianceStandardsQuestions@ee.doe.gov.

SUPPLEMENTARY INFORMATION: On July 16, 2019, DOE published a notice of proposed rulemaking (NOPR) in the Federal Register soliciting public comment on its grant of a petition for rulemaking and a proposed rule to establish a new product class for dishwashers with a cycle time for the normal cycle of less than one hour from washing through drying. 84 FR 33869. Comments were originally due on September 16, 2019. On August 9, 2019, DOE received a comment from Association of Home Appliance Manufacturers (AHAM) requesting a 60 day comment period extension.¹ DOE has reviewed the request and considered the benefit to stakeholders in providing additional time to review the NOPR and gather information/data that DOE is seeking.

¹ DOE has posted this comment to the docket at https://www.regulations.gov/document?D=EERE-2018-BT-STD-0005-2309.

Accordingly, DOE has determined that an extension of the comment period is appropriate, and is hereby extending the comment period by 30 days, until October 16, 2019. Given stakeholders' previous opportunities to comment on the petition when it was initially published on April 24, 2018 (83 FR 17768), DOE feels that the additional 30 days is adequate time for industry members to respond to the NOPR.

Signed in Washington, DC, on August 16, 2019.
Alexander N. Fitzsimmons,
Acting Deputy Assistant Secretary for Energy Efficiency, Energy Efficiency and Renewable Energy.

[FR Doc. 2019-18299 Filed 8-23-19; 8:45 am]

BILLING CODE 6450-01-P